DEPARTMENT OF HOMELAND SECURITY

Coast Guard

33 CFR Part 117

[Docket No. USCG-2016-0963]

RIN 1625-AA09

Drawbridge Operation Regulations; Tchefuncta River

AGENCY: Coast Guard, DHS.

ACTION: Notice of proposed rulemaking.

SUMMARY: The Coast Guard proposes changing the operating schedule that governs the State Route 22 (SR 22) drawbridge across the Tchefuncta River mile 2.5, Madisonville, St. Tammany Parish, Louisiana. This action is necessary to relieve vehicular traffic congestion and enhance safety along SR 22 in Madisonville, LA.

DATES: Comments and related material must be received by the Coast Guard on or before November 1, 2021.

ADDRESSES: You may submit comments identified by docket number USCG-2016-0963 using Federal eRulemaking Portal at http://www.regulations.gov.

See the “Public Participation and Request for Comments” portion of the SUPPLEMENTARY INFORMATION section for further instructions on submitting comments.

FOR FURTHER INFORMATION CONTACT: If you have questions about this proposed rulemaking, call or email Mr. Doug Blakemore, Eighth Coast Guard District Bridge Administrator; telephone (504) 671-2128, email Douglas.A.Blakemore@uscg.mil.

SUPPLEMENTARY INFORMATION:

I. Table of Abbreviations

CFR Code of Federal Regulations

DHS Department of Homeland Security

E.O. Executive Order

FR Federal Register

LADOTD Louisiana Department of Transportation and Development

OMB Office of Management and Budget

Pub. L. Public Law

NPRM Notice of proposed rulemaking

§ Section

SR State Road

SNPRM Supplemental Notice of Proposed Rulemaking

U.S.C. United States Code

II. Background, Purpose and Legal Basis

The Town of Madisonville, Louisiana has requested to change the operating schedule of the State Route 22 Bridge (Madisonville SR 22 drawbridge bridge) across the Tchefuncta River, mile 2.5, at Madisonville, St. Tammany Parish, Louisiana. This bridge is regulated under 33 CFR 117.500 and has a vertical clearance of 6.2 feet above Mean High Water in the closed-to-navigation position and unlimited clearance in the open-to-navigation position. The draw of this bridge opens on signal from 7 p.m. to 6 a.m. From 6 a.m. to 7 p.m. the draw need only open on the hour and half hour, except that: From 6 a.m. to 9 a.m. Monday through Friday except federal holidays the draw need only open on the hour; and from 4 p.m. to 5:30 p.m. Monday through Friday except federal holidays the draw need not open. Navigation on the waterway consists primarily of recreational traffic.

On November 4, 2016, at the request of the Louisiana Department of Transportation and Development (LA-DOTD), the Coast Guard issued a temporary deviation titled “Drawbridge Operation Regulations; Tchefuncta River, Madisonville, LA” (81 FR 76866). There, we stated that the 180-day deviation would test a temporary change to the operating schedule of the Madisonville (SR22) drawbridge bridge to determine whether a permanent change is necessary. From November 21, 2016 through May 18, 2017, this deviation extended the time between openings from 30 minutes to an hour between 6 a.m. and 7 p.m. daily, and allowed the bridge to remain closed at 8 a.m., 5 p.m., and 6 p.m.. Monday through Friday except federal holidays. During the comment period that closed on January 18, 2017, the Coast Guard received no comments.

On November 4, 2016, concurrent with the test deviation and on the basis of a recent traffic study conducted by LA-DOTD, the Coast Guard published a notice of proposed rulemaking (NPRM) titled “Drawbridge Operation Regulations; Tchefuncta River, Madisonville, LA” (81 FR 76889). There, we stated that the traffic study indicated that the intersection of SR 22 and SR 21/SR1077 is overcapacity at peak hours and causes unacceptable levels of delay to roadway traffic, which is compounded by the opening of the Madisonville SR 22 drawbridge bridge during peak hours. The traffic study also indicated that a combination of modifications of the traffic controls at this intersection and the operating schedule of the Madisonville SR 22 drawbridge bridge would enhance the flow of vehicular traffic over SR 22. The NPRM proposed a change to the schedule of the Madisonville SR 22 drawbridge bridge that extended the time between openings from 30 minutes to an hour between 6 a.m. and 7 p.m. daily, and allowed the bridge to remain closed at 8 a.m., 5 p.m., and 6 p.m., Monday through Friday except federal holidays. During the comment period that closed on January 18, 2017, the Coast Guard received no comments.

On July 16, 2018 at the request of LADOTD the Coast Guard published a Supplemental NPRM (SNPRM) in 83 FR 27730 to change the operating schedule to provide daily bridge openings from half-hour intervals to hourly intervals 7 days a week, close the bridge to vessels at 8 a.m., 5 p.m. and 6 p.m. on weekdays. LADOTD had requested that the Coast Guard permanently change the regulation based on information provided in the traffic study and also provided supplemental data and information on the population growth in St. Tammany Parish, including information on vehicle traffic counts on SR 22 from 2015, the locations of schools in the vicinity of SR 22 that contribute to vehicle congestion, St. Tammany Parish projected population growth rates, and residential construction permit growth. During the comment period that closed on July 16 2018, the Coast Guard received 300 comments. The vast majority of comments supported the proposed regulation change. The Coast Guard concluded that there was sufficient information to change the regulation to allow the draw to not open to vessels on Mondays through Fridays from 4 p.m. to 5:30 p.m. and that the draw need only open on the hour from 6 a.m. to 9 a.m. The Coast Guard issued a final rule on this change on November 26, 2018 in 83 FR 53810.

III. Discussion of Proposed Rule

On April 23, 2021 the Town of Madisonville requested that the operating schedule on the SR 23 drawbridge be changed to relieve vehicle congestion during peak, afternoon weekday traffic and to alleviate safety concerns. In the April 23, 2021 letter the Town of Madisonville cited information and documentation from parish and local law enforcement and fire protection agencies identifying safety and fire protection concerns with the traffic congestion and bridge openings every 30 minutes during the day. They requested that the drawbridge regulation be changed to close the bridge to vessel traffic from 4 p.m. to 6 p.m. Monday-Friday and open the bridge on signal on the hour from 6 a.m. to 7 p.m. 7 days a week. This requested change would effectively close the bridge to vessels for a 4 hour period in afternoons Monday-Friday: 3 p.m. to 7 p.m.

There appears to be sufficient information to change the regulations to open the bridge 7 days a week on the hour with the exception of morning and afternoon vehicle rush hours on Monday through Friday. On Monday through Friday there is sufficient information to close the bridge to vessels for 2 hour windows in the morning and afternoon.

Additionally the bridge is required to open for emergencies according to 33 CFR 117.31.

IV. Regulatory Analyses

We developed this proposed rule after considering numerous statutes and Executive Orders related to rulemaking. Below we summarize our analyses based on these statutes and Executive Orders and we discuss First Amendment rights of protestors.

A. Regulatory Planning and Review

Executive Orders 12866 and 13563 direct agencies to assess the costs and benefits of available regulatory alternatives and, if regulation is necessary, to select regulatory approaches that maximize net benefits. This NPRM has not been designated a “significant regulatory action,” under Executive Order 12866. Accordingly, the NPRM has not been reviewed by the Office of Management and Budget (OMB

This regulatory action determination is based on the ability that vessels can still transit the bridge given advanced notice. Additionally those vessels with a vertical clearance requirement of less than 6.2 feet above mean high water may transit the bridge at any time, and the bridge will open in case of emergency at any time.

B. Impact on Small Entities

The Regulatory Flexibility Act of 1980 (RFA), 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the bridge may be small entities, for the reasons stated in section IV.A above this proposed rule would not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT section. The Coast Guard will not retaliate against small entities that question or complain about this proposed rule or any policy or action of the Coast Guard.

C. Collection of Information

This proposed rule would call for no new collection of information under the Paperwork Reduction Act of 1995 (44 U.S.C. 3501-3520.).

D. Federalism and Indian Tribal Governments

A rule has implications for federalism under Executive Order 13132 (Federalism), if it has a substantial direct effect on the States, on the relationship between the national government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule will not result in such an expenditure, we do discuss the effects of this proposed rule elsewhere in this preamble.

F. Environment

We have analyzed this rule under Department of Homeland Security Management Directive 023-01, Rev.1, associated implementing instructions, and Environmental Planning Policy COMDTINST 5090.1 (series), which guide the Coast Guard in complying with the National Environmental Policy Act of 1969 (NEPA)(42 U.S.C. 4321-4370f). The Coast Guard has determined that this action is one of a category of actions that do not individually or cumulatively have a significant effect on the human environment. This proposed rule promulgates the operating regulations or procedures for drawbridges. Normally such actions are categorically excluded from further review, under paragraph L49, of Chapter 3, Table 3-1 of the U.S. Coast Guard Environmental Planning Implementation Procedures.

Neither a Record of Environmental Consideration nor a Memorandum for the Record are required for this rule. We seek any comments or information that may lead to the discovery of a significant environmental impact from this proposed rule.

G. Protest Activities

The Coast Guard respects the First Amendment rights of protesters. Protesters are asked to contact the person listed in the FOR FURTHER INFORMATION CONTACT section to coordinate protest activities so that your message can be received without jeopardizing the safety or security of people, places or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at https://www.regulations.gov. If your material cannot be submitted using https://www.regulations.gov, contact the person in the FOR FURTHER INFORMATION CONTACT section of this document for alternate instructions.

We accept anonymous comments. All comments received will be posted without change to https://www.regulations.gov and will include any personal information you have provided. For more about privacy and submissions in response to this document, see DHS's eRulemaking System of Records notice (85 FR 14226, March 11, 2020).

Documents mentioned in this NPRM as being available in this docket and all public comments, will be in our online docket at https://www.regulations.gov and can be viewed by following that website's instructions. Additionally, if you go to the online docket and sign up for email alerts, you will be notified.

List of Subjects in 33 CFR Part 117

Bridges.

For the reasons discussed in the preamble, the Coast Guard proposes to amend 33 CFR part 117 as follows:

PART 117—DRAWBRIDGE OPERATION REGULATIONS

1. The authority citation for part 117 continues to read as follows:

Authority: 33 U.S.C. 499; 33 CFR 1.05-1; and Department of Homeland Security Delegation No. 0170.1.

2. Revise § 117.500 to read as follows:

§ 117.500 Tchefuncta River

The draw of the S22 Bridge, mile 2.5, at Madisonville, LA shall open on signal from 6 p.m. to 6 a.m. The draw will open on signal on the hour from 6 a.m. to 6 p.m. except that on Monday through Friday the bridge will not open to vessels at 7 a.m. and 5 p.m. The bridge shall open anytime at the direction of the District Commander.

Dated: August 19, 2021.
R.V. Timme,
Rear Admiral, U.S. Coast Guard, Commander, Eighth Coast Guard District.

[FR Doc. 2021-18640 Filed 8-31-21; 8:45 am]

BILLING CODE 9110-04-P